DEPARTMENT OF LABOR

Employment and Training Administration

Agency Information Collection Activities; Comment Request; Fidelity Bonding Demonstration

ACTION: Notice.

SUMMARY: The Department of Labor's (DOL) Employment and Training Administration (ETA) is soliciting comments concerning a proposed extension for the authority to conduct the information collection request (ICR) titled, “Fidelity Bonding Demonstration.” This comment request is part of continuing Departmental efforts to reduce paperwork and respondent burden in accordance with the Paperwork Reduction Act of 1995 (PRA).

DATES: Consideration will be given to all written comments received by November 21, 2022.

ADDRESSES: A copy of this ICR with applicable supporting documentation, including a description of the likely respondents, proposed frequency of response, and estimated total burden, may be obtained free by contacting Mallery Johnson by telephone at 202-693-3497 (this is not a toll-free number) or by email at johnson.mallery@dol.gov.

Submit written comments about, or requests for a copy of, this ICR by email to johnson.mallery@dol.gov. Though hard copy mail frequently experiences delays, comments can also be delivered by mail or courier to the U.S. Department of Labor, Employment and Training Administration, Reentry Employment Opportunities, Room N-4508, 200 Constitution Avenue NW, Washington, DC 20210.

FOR FURTHER INFORMATION CONTACT: Mallery Johnson by telephone at 202-693-3497 (this is not a toll-free number) or by email at johnson.mallery@dol.gov.

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

The Federal Bonding Program provides fidelity bonds protecting employers who hire individuals with criminal records and other job applicants from theft, forgery, or embezzlement by the employee. Although the bonds have mainly been used for hires of individuals with criminal records, any job applicant is eligible for bonding services, including recovering substance abusers (alcohol or drugs) and persons having poor financial credit, youth and adults who lack a work history, individuals dishonorably discharged from the military, and others. Over the years, the Federal Bonding Program has remained a relatively small program, serving about 900 individuals each year. DOL expanded the use of fidelity bonds to place individuals previously incarcerated in jobs by providing multiple year grants to 24 states in 2019 and 8 additional grants in 2020 for states to purchase such bonds. Relatedly, the number of individuals served rose to approximately 1,050 in 2021.

In order to account for the accurate use and tracking of the expansion of fidelity bonding, the Department is now seeking to extend PRA approval for the Fidelity Bond Issuance Form. This form lists the contact information of the job placement agency and the employer; identifies the person being insured; and provides the amount and the effective date of the bond issued. The form also identifies the occupation, hourly wage, and hours per week of the job placement; the employer type, industry, and size of the firm; and the gender, race, and ethnicity of the person insured.

This information collection is conducted under the authority of section 185(a)(2) of the Workforce Innovation and Opportunity Act (WIOA), which requires recipients of funds under title I to maintain such records and submit such reports as the Secretary requires regarding the performance of Title I programs and activities (including Federal Bonding, a WIOA section 169 demonstration). The fidelity bonding demonstration grantees will report a recidivism rate for participants enrolled in Wagner-Peyser Employment Service. The proposed reporting and record-keeping system provides a minimum level of information collection that is necessary to comply with Equal Opportunity requirements, to hold grantees appropriately accountable for the Federal funds they receive to purchase bonds, and to allow the Department to fulfil its oversight and management responsibilities.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB CONTROL 1205-0541. Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Type of Review: Extension.

Title of Collection: Fidelity Bonding Demonstration.

Form: Fidelity Bonding Issuance Form.

OMB Control Number: 1205-0541.

Affected Public: State Workforce Agencies, local American Job Center staff, private employers.

Estimated Number of Respondents: 8,000.

Frequency: Once.

Total Estimated Annual Responses: 32,000.

Estimated Average Time per Response: Varies.

Estimated Total Annual Burden Hours: 2,400 hours.

Total Estimated Annual Other Cost Burden: $32,947.20.

Authority: 44 U.S.C. 3506(c)(2)(A).

Brent Parton,
Acting Assistant Secretary for Employment and Training, Labor.

[FR Doc. 2022-20396 Filed 9-20-22; 8:45 am]

BILLING CODE 4510-FN-P